DEPARTMENT OF HOUSING AND URBAN DEVELOPMENT

[Docket No. FR-7034-N-30]

30-Day Notice of Proposed Information Collection: Housing Opportunities for Persons With AIDS (HOPWA) Program; OMB Control No. 2506-0133

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: July 14, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on Friday October 30, 2020 at 85 FR 68912.

A. Overview of Information Collection

Title of Information Collection: Housing Opportunities for Persons with AIDS (HOPWA): Grant Application Submission, Recordkeeping, and Reporting.

OMB Approval Number: 2506-0133.

Type of Request: Revision of currently approved collection.

Form Number: HUD-40110-B, HUD-40110-C, HUD-40110-D, SF-424, SF424D, SF-LLL, and HUD-2991.

Description of the need for the information and proposed use:

The current Paperwork Reduction Act approval under OMB Control No. 2506-0133 covers reporting, recording keeping, and application requirements for both the HOPWA formula and competitive grant programs. This revision applies to reporting requirements for all HOPWA grantees.

For annual reporting, HOPWA grantees complete reporting forms by providing information on activities undertaken, number of clients served, funds expended, and accomplishments achieved. This information supports program evaluation and the ability to measure program beneficiary outcomes related to: Maintaining housing stability; preventing homelessness; and improving access to care and support. Grantees are required to report on the activities undertaken only, thus there may be components of these reporting requirements that may not be applicable to every grantee.

The data elements in this submission represent the new annual reporting requirements for both HOPWA formula and competitive grantees, and represent a consolidation of the data elements in HUD-40110-C and HUD-40110-D. Compared to the HUD-40110-C and HUD-40110-D, the data elements in this submission represent data additions, deletions, and modifications that further clarify reporting requirements. The addition of new data elements will allow OHH to better respond to data calls from Congress and to make better programmatic decisions based on more relevant grantee annual data.

HUD systematically reviews and conducts data analysis in order to prepare national and individual grantee performance profiles that are not only used to measure program performance against benchmark goals and objectives, but also to communicate the program's achievement and contributions towards Departmental strategic goals. HUD plans to continue using the data elements in this submission for these purposes.

The currently approved collection also pertains to grant application submission requirements which will be used to rate applications, determine eligibility, and establish grant amounts. HOPWA will continue using application narratives and form HUD-40110-B, HOPWA Competitive Application & Renewal of Permanent Supportive Housing Project Budget Summary, as a component of determining applicant eligibility and establishing grant amounts for competitive grants. HOPWA competitive and renewal application submission also continue to require submission of the following forms currently approved under this collection: SF424 and SF424b assurances; SFLLL; SF-424D; and HUD-2991. Form HUD-2991 is currently covered under OMB approval number 2506-0112.

Information collection | Number of respondents | Frequency of response | Responses per annum | Burden hour per response | Annual burden hours | Hourly cost per response | Annual cost
HOPWA Renewal Application (including HUD-40110-B, narratives, and other requirements listed in the renewal notice) | 28.00 | 1.00 | 28.00 | 15.00 | 420.00 | $25.35 | $10,647.00
HOPWA Competitive Application (including HUD-40110-B, narratives, and other requirements listed in the NOFA) | 40.00 | 1.00 | 40.00 | 45.00 | 1800.00 | 25.35 | 45,630.00
SF-424 | 0 | 0 | 0 | 0 | 0 | 0 | 0
SF-424B | 0 | 0 | 0 | 0 | 0 | 0 | 0
SF-LLL | 0 | 0 | 0 | 0 | 0 | 0 | 0
SF-424D | 0 | 0 | 0 | 0 | 0 | 0 | 0
New consolidated data elements (HUD-4155) | 244.00 | 1.00 | 244.00 | 40.0 | 9,760.00 | 25.35 | 247,416.00
HUD-40110-C Annual Progress Report (APR) | 116.00 | 1.00 | 116.00 | 55.00 | 6,380.00 | 25.35 | 161,733.00
HUD-40110-D Consolidated Annual Performance and Evaluation Report (CAPER) | 128.00 | 1.00 | 128.00 | 41.00 | 5,248.00 | 25.35 | 133,036.80
HUD-4154, HIV Housing Care Continuum Model Report (new competitive SPNS grant only) | 26.00 | 1.00 | 26.00 | 20.00 | 520.00 | 25.35 | 13,182.00
HUD-4153, Housing as an Intervention to Fight AIDS (HIFA) Model Report (new competitive SPNS grant only) | 26.00 | 1.00 | 26.00 | 40.00 | 1040.00 | 25.35 | 26,364.00
Recordkeeping for Competitive, Renewal, and Formula Grantees | 244.00 | 1.00 | 244.00 | 60.00 | 14640.00 | 25.35 | 371,124.00
Grant Amendments (budget change, extension, or early termination) | 30.00 | 1.00 | 30.00 | 6.00 | 180.00 | 25.35 | 4,563.00
Total | 882.00 |  | 882.00 |  | 39,988.00 |  | 1,013,695.80

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Anna P. Guido,
Department Reports Management Officer, Office of the Chief Information Officer.

[FR Doc. 2021-12433 Filed 6-11-21; 8:45 am]

BILLING CODE 4210-67-P